DEPARTMENT OF HEALTH AND HUMAN SERVICES

National Institutes of Health

Center for Scientific Review; Amended Notice of Meeting

Notice is hereby given of a change in the meeting of the Clinical and Integrative Gastrointestinal Pathobiology Study Section, May 29, 2009, 8 a.m. to May 29, 2009, 5 p.m., Avenue Hotel Chicago, 160 E. Huron Street, Chicago, IL, 60611 which was published in the Federal Register on April 23, 2009, 74 FR 18583-18584.

The meeting will be held May 28, 2009, 6 p.m. to May 29, 2009, 5 p.m.. The meeting location remains the same. The meeting is closed to the public.

Dated: April 24, 2009.
Jennifer Spaeth,
Director, Office of Federal Advisory Committee Policy.

[FR Doc. E9-10018 Filed 4-30-09; 8:45 am]

BILLING CODE 4140-01-M